DEPARTMENT OF COMMERCE

International Trade Administration

2001 Trade Missions—Applications Opportunity

AGENCY: International Trade Administration, Department of Commerce.

ACTION: Notice.

SUMMARY: The Department of Commerce invites U.S. companies to participate in the following overseas trade missions that they also explain at the following website: http://www.usatrade.gov/matchmaker. For a comprehensive description of the trade mission, obtain a copy of the mission statement from the project officer listed below. The recruitment and selection of private sector participants will be conducted according to the Statement of Policy Governing Department of Commerce Overseas Trade Missions announced by Secretary Daley on March 3, 1997.

Telecommunications Matchmaker

India

February 26-March 2, 2001

For Further Information Contact: Daniel Edwards at the Department of Commerce in Washington, DC. Telephone number: (202) 482-4331 or Fax: (202) 482-5834.

U.S. Franchising Matchmaker

New Zealand and Australia

March 18-23, 2001

For Further Information Contact: Sam Dhir at the Department of Commerce in Washington, DC. Telephone number: (202) 482-4756 or Fax: (202) 482-0178.

Safety & Security Matchmaker

Tijuana and Mexico City, Mexico

July 16-20, 2001

FOR FURTHER INFORMATION CONTACT: Molly Costa at the Department of Commerce in Washington, DC. Telephone number: (202) 482-4756 or Fax: (202) 482-0178.

ACE/Infrastructure Matchmaker

Manila, Philippines & Hanoi and Ho Chi Minh City, Vietnam

September 10-15, 2001

For Further Information Contact: Sam Dhir at the Department of Commerce in Washington, DC. Telephone number: (202) 482-4756 or Fax: (202) 482-0178.

Manufacturing Matchmaker

Monterrey and Mexico City, Mexico

September 17-21, 2001

For Further Information Contact: Molly Costa at the Department of Commerce in Washington, DC. Telephone number: (202) 481-4756 or Fax: (202) 482-0178.

John Klingelhut,
Director, Office of Public and Private Initiatives.

[FR Doc. 01-815 Filed 1-30-01; 8:45 am]

BILLING CODE 3510-FP-P